DEPARTMENT OF ENERGY

Federal Energy Regulatory Commission

[Docket No. CP17-40-001]

Spire STL Pipeline, LLC; Notice of Amendment to Application for Certificate of Public Convenience and Necessity

Take notice that on April 21, 2017, Spire STL Pipeline LLC (Spire), 700 Market Street, St. Louis, Missouri 63101, filed an amendment to its application filed on January 26 pursuant to section 7(c) of the Natural Gas Act (NGA) and Parts 157 and 284 of the Commission's Regulations. Specifically, Spire is amending the application to propose a route alternative under which Spire would construct a new six-mile, 24-inch diameter pipeline for the final segment of its proposal (referred to as the North County Extension) instead of acquiring and refurbishing an existing seven-mile pipeline (known as Line 880) from its affiliated local gas distribution company, Laclede Gas Company (Laclede). The North County Extension would extend approximately six miles from the current terminus of the proposed 59-mile, 24-inch pipeline at the Laclede-Lange interconnect in St. Louis County, Missouri, through the northern portion of St. Louis County, and terminate at a new interconnection point with both Enable Mississippi River Transmission, LLC (MRT) and Laclede that would replace the existing Laclede-MRT interconnection at Chain of Rocks. The total length of the proposed project would be approximately 65 miles.

The filing may be viewed on the web at http://www.ferc.gov using the “eLibrary” link. Enter the docket number excluding the last three digits in the docket number field to access the document. For assistance, contact FERC at FERCOnlineSupport@ferc.gov or call toll-free, (886) 208-3676 or TYY, (202) 502-8659.

Any questions concerning this application should be directed to Scott Jaskowiak, Vice President, Spire STL Pipeline LLC, 700 Market Street, St. Louis, Missouri 63101, phone: 314-516-8588, email: scott.jaskowiak@spireenergy.com.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Comment Date: 5:00 p.m. Eastern Time on May 22, 2017.

Dated: May 1, 2017.
Kimberly D. Bose,
Secretary.

[FR Doc. 2017-09116 Filed 5-4-17; 8:45 am]

BILLING CODE 6717-01-P